FEDERAL MARITIME COMMISSION

Sunshine Act Meeting

AGENCY HOLDING THE MEETING: Federal Maritime Commission.

TIME AND DATE: June 23, 2010—10 a.m.

PLACE: 800 North Capitol Street, NW., First Floor Hearing Room, Washington, DC.

STATUS: Part of the meeting will be in Open Session and the remainder of the meeting will be in Closed Session.

MATTERS TO BE CONSIDERED:

Open Session

1. Fact Finding No. 27: Complaints or Inquiries from Individual Shippers of Household Goods or Private Automobiles

Closed Session

1. Fact Finding Investigation No. 26: Vessel Capacity and Equipment Availability in the United States Export and Import Liner Trades—Discussion of the Fact Finding Officer's Interim Report Findings

2. Staff Briefing and Discussion Regarding Passenger Vessel Financial Responsibility Notice of Inquiry Information Collection

CONTACT PERSON FOR MORE INFORMATION: Karen V. Gregory, Secretary, (202) 523-5725.

Karen V. Gregory,
Secretary.

[FR Doc. 2010-14939 Filed 6-16-10; 4:15 pm]

BILLING CODE 6730-01-P